DEPARTMENT OF HEALTH AND HUMAN SERVICES

Administration for Children and Families

Proposed Information Collection Activity; Data Collection for the Integrating Financial Capability and Employment Services Project (New Collection)

AGENCY: Office of Planning, Research, and Evaluation, Administration for Children and Families, HHS.

ACTION: Request for public comment.

SUMMARY: The Office of Planning, Research, and Evaluation (OPRE), Administration for Children and Families (ACF), U.S. Department of Health and Human Services (HHS), is proposing a data collection activity as part of the Integrating Financial Capability and Employment Services Project. The objective of this project is to better understand financial capability interventions offered in the context of delivering employment and training services for low-income adults. This descriptive study intends to use this information to build more evidence about the extent, forms, and practices of incorporating financial capability interventions into organizations delivering employment and training services for low-income adult populations, and to help establish a basis for future research and evaluation in this area. This project will focus on organizations delivering employment and training services that also offer financial capability services to low-income adults.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The objective of the Integrating Financial Capability and Employment Services Project is to better understand financial capability interventions offered in the context of delivering employment and training services for low-income adults. This descriptive study intends to use the information collected to build more evidence about the extent, forms, and practices of incorporating financial capability interventions into organizations delivering employment and training services for low-income adult populations, and to help establish a basis for future research and evaluation in this area. This project will focus on organizations delivering employment and training services that also offer financial capability services to low-income adults and will include:

• An online survey of organizations to document important factors driving the decision to incorporate financial capability services as well as key inputs, activities, and outputs involved in offering such services;

• phone interviews of administrators of organizations to gather qualitative information on how organizations implement financial capability across a variety of program types;

• virtual site visits to four organizations to collect in-depth qualitative information from multiple perspectives on notable models;

• interviews with participants to provide context on participants' perspectives on these services;

• interviews with employers offering financial capability services to collect qualitative information on the types of financial capability services delivered in the employer context; and

• focus groups with administrators of organizations to identify challenges integrating financial capability services into employment and training services.

Respondents: Individuals that are currently receiving or have received financial capability services; administrators, managers, and staff of employment and training programs; managers and staff of programs that partner with employment and training programs; and leadership at private employers.

Annual Burden Estimates
Instrument | Number of respondents (total over request period) | Number of responses per respondent (total over request period) | Average burden per response (in hours) | Total/annual burden (in hours)
Survey of Employment and Training Programs | 80 | 1 | .33 | 27
Phone Interviews | 15 | 1 | 1.5 | 23
Virtual Site Visit Interviews | 32 | 1 | 1.5 | 48
Participant Interviews | 16 | 1 | 1.5 | 24
Employer Interviews | 10 | 1 | 1 | 10
Program Administrator Focus Groups | 10 | 1 | 1.5 | 15

Estimated Total Annual Burden Hours: 147.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 613.

Mary B. Jones,
ACF/OPRE Certifying Officer.

[FR Doc. 2021-18520 Filed 8-26-21; 8:45 am]

BILLING CODE 4184-09-P